DEPARTMENT OF THE INTERIOR

Bureau of Land Management

[UT-050-1430-UTU-79468]

Realty Action Notice

AGENCY: Bureau of Land Management, Interior.

ACTION: Notice of realty action.

SUMMARY: The following public lands in Sevier County, Utah, have been examined and found suitable for sale utilizing non-competitive procedures, at not less than the fair market value of $167,000. Salt Lake Meridian, Utah. T. 22 S., R. 1 W. Section 1, Lots 1 thru 4 and S½N½, N½SW¼, SW¼SW¼, containing 440.85 acres. Authority for the sale is Section 203 of the Federal Land Policy and Management Act of 1976 (FLPMA). The land will not be offered for sale until at least 60 days after the date of this notice.

DATES: For a period of 45 days from the date of publication of this notice in the Federal Register, interested persons may submit comments regarding the sale of the lands to the Field Manager, Richfield Field Office at the address shown below. In the absence of timely objections, this proposal shall become the final determination of the Department of the Interior.

ADDRESSES: Comments on the proposed sale should be sent to Aden Seidlitz, Field Manager, Richfield Field Office, 150 East 900 North, Richfield, Utah 84701. Comments, including names and addresses of respondents will be available for public review at the Bureau of Land Management, Richfield Field Office and will be subject to disclosure under the Freedom of Information Act (FOIA). Individual respondents may request confidentiality. If you wish to have your name or street address from public review and disclosure under the FOIA, you must state this prominently at the beginning of your written comment. Such requests will be honored to the extent allowed by law. All submissions from organizations or businesses, and from individuals identifying themselves as representatives or officials of organizations or businesses, will be made available for public inspection in their entirety.

FOR FURTHER INFORMATION CONTACT: Aden Seidlitz, Richfield Field Manager, 150 East 900 North, Richfield, Utah 84701 or telephone (435) 896-1500. Existing planning documents and information are available at the above address.

SUPPLEMENTARY INFORMATION: Upon publication of this notice in the Federal Register, the lands described above will be segregated from all forms of appropriation under the public land laws, including the mining laws, pending disposition of this action or 270 days from the date of publication of this notice, whichever occurs first. The land is being offered to Salina City, Utah, at not less than the appraised fair market value of $167,000. All minerals in the lands would be reserved to the United States. Detailed information concerning the sale will be available to interested parties from the Richfield Field Office, Bureau of Land Management, 150 East 900 North, Richfield, Utah 84701.

Dated: March 7, 2003.
Aden L. Seidlitz,
Field Manager, Richfield Field Office.

[FR Doc. 03-12519 Filed 5-19-03; 8:45 am]

BILLING CODE 4310-DQ-P